Title 3—

The President

Executive Order 13289 of March 12, 2003

Establishing the Global War on Terrorism Medals

By the authority vested in me as President by the Constitution and the laws of the United States of America, including my authority as Commander in Chief of the Armed Forces of the United States, it is hereby ordered as follows:

Section 1. Global War on Terrorism Expeditionary Medal. There is hereby established the Global War on Terrorism Expeditionary Medal with suitable appurtenances. Except as limited in section 3 of this order, and under uniform regulations to be prescribed by the Secretaries of the military departments and approved by the Secretary of Defense, or under regulations to be prescribed by the Secretary of Homeland Security with respect to the Coast Guard when it is not operating as a service in the Navy, the Global War on Terrorism Expeditionary Medal shall be awarded to members of the Armed Forces of the United States who serve or have served in military expeditions to combat terrorism, as defined by such regulations, on or after September 11, 2001, and before a terminal date to be prescribed by the Secretary of Defense.

Sec. 2. Global War on Terrorism Service Medal. There is hereby established the Global War on Terrorism Service Medal with suitable appurtenances. Except as limited in section 3 of this order, and under uniform regulations to be prescribed by the Secretaries of the military departments and approved by the Secretary of Defense, or under regulations to be prescribed by the Secretary of Homeland Security with respect to the Coast Guard when it is not operating as a service in the Navy, the Global War on Terrorism Service Medal shall be awarded to members of the Armed Forces of the United States who serve or have served in military operations to combat terrorism, as defined by such regulations, on or after September 11, 2001, and before a terminal date to be prescribed by the Secretary of Defense.

Sec. 3. Relationship to Other Awards. Notwithstanding section 3 of Executive Order 10977 of December 4, 1961, establishing the Armed Forces Expeditionary Medal and section 3 of Executive Order 12985 of January 11, 1996, establishing the Armed Forces Service Medal, any member who qualified for those medals by reason of service in operations to combat terrorism between September 11, 2001, and a terminal date to be determined by the Secretary of Defense, shall remain qualified for those medals. Upon application, any such member may be awarded either the Global War on Terrorism Expeditionary Medal or the Global War on Terrorism Service Medal in lieu of the Armed Forces Expeditionary Medal or the Armed Forces Service Medal, but no person may be awarded more than one of these four medals by reason of service in the same approved Global War on Terrorism expedition or operation to combat terrorism, and no person shall be entitled to more than one award of the Global War on Terrorism Expeditionary Medal or the Global War on Terrorism Service Medal.

Sec. 4. Posthumous Award. The Global War on Terrorism Expeditionary Medal and the Global War on Terrorism Service Medal may be awarded posthumously to any person covered by and under regulations prescribed in accordance with the first or second sections of this order.

Sec. 5. Nothing in this Executive Order shall be construed for any purpose as fixing, or authorizing the fixing of, the dates of initiation or termination of armed hostilities between the United States and terrorists of global reach.

B

THE WHITE HOUSE,

March 12, 2003.

[FR Doc. 03-6445

Filed 3-13-03; 12:27 pm]

Billing code 3195-01-P